DEPARTMENT OF HEALTH AND HUMAN SERVICES

National Institutes of Health

National Institute on Aging; Notice of Meeting

Pursuant to section 1009 of the Federal Advisory Committee Act, as amended, notice is hereby given of a meeting of the National Advisory Council on Aging.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Council on Aging.

Date: January 28-29, 2025.

Closed: January 28, 2025, 3:00 p.m. to 5:00 p.m.

Agenda: To review and evaluate to review and evaluate grant applications.

Place: Building 45, Natcher Building, Center Drive, Bethesda, MD 20892 (In-Person and Virtual Meeting).

Open: January 29, 2025, 10:00 a.m. to 2:00 p.m.

Agenda: Call to order and report from the Director; Discussion of future meeting dates; Consideration of minutes of last meeting; Reports from Task Force on Minority Aging Research, Working Group on Program; Council Speaker; Program Highlights.

Place: Building 45, Natcher Building, Center Drive, Bethesda, MD 20892 (In-Person and Virtual Meeting).

Closed: January 29, 2025, 2:00 p.m. to 2:30 p.m.

Agenda: To review and evaluate to review and evaluate review of Intramural Research Program.

Place: Building 45, Natcher Building, Center Drive, Bethesda, MD 20892 (In-Person and Virtual Meeting).

Contact Person: Kenneth Santora, Ph.D., Director, Office of Extramural Activities, National Institute on Aging, National Institutes of Health, Gateway Building, 7201 Wisconsin Avenue, Bethesda, MD 20814, (301) 496-9322, ksantora@nih.gov.

Information is also available on the Institute's/Center's home page: www.nia.nih.gov/about/naca, where an agenda and any additional information for the meeting will be posted when available.

(Catalogue of Federal Domestic Assistance Program Nos. 93.866, Aging Research, National Institutes of Health, HHS)

Dated: September 30, 2024.
Miguelina Perez,
Program Analyst, Office of Federal Advisory Committee Policy.

[FR Doc. 2024-22882 Filed 10-3-24; 8:45 am]

BILLING CODE 4140-01-P